DEPARTMENT OF HEALTH AND HUMAN SERVICES

Administration for Children and Families

Submission for OMB Review; Comment Request

Title: Assets for Independence Program Performance Progress Report.

OMB No.: New.

Description: The Assets for Independence (AFI) Act (Title IV of the Community Opportunities, Accountability, and Training and Educational Services Act of 1998, Pub. L. 105-285, [42 U.S.C. 604 note]) requires that organizations operating AFI projects submit annual progress reports.

This request is to create an AFI program specific Performance Progress Report (PPR) to replace the semiannual standard form performance progress report (SF-PPR) and the annual data report. The AFI PPR will collect data on project activities and attributes similar to the reports that it is replacing. The Office of Community Services (OCS) in the Administration for Children and Families (ACF) will use the data collected in the AFI PPR to prepare the annual AFI Report to Congress, to evaluate and monitor the performance of the AFI program overall and of individual projects, and to inform and support technical assistance efforts. The AFI PPR would fulfill AFI Act reporting requirements and program purposes.

The AFI PPR will be submitted quarterly: three times per year using an abbreviated short form and one time using a long form. Both draft data collection instruments are available for review online at http://idaresources.acf.hhs.gov/AFIPPR.

Respondents: Assets for Independence (AFI) program grantees.

Annual Burden Estimates:

Form name | Number of responses | Number of responses per respondent | Average burden hours per response | Total burden hours
AFI PPR Short Form | 300 | 3 | 0.5 | 450
AFI PPR Long Form | 300 | 1 | 3.8 | 1,140
Estimated Annual Burden Hours |  |  |  | 1,590

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2016-08090 Filed 4-7-16; 8:45 am]

BILLING CODE 4184-01-P